DEPARTMENT OF TRANSPORTATION

Office of the Secretary

Aviation Proceedings, Agreements Filed the Week Ending August 20, 2004

The following Agreements were filed with the Department of Transportation under the provisions of 49 U.S.C. 412 and 414. Answers may be filed within 21 days after the filing of the application.

Docket Number: OST-2004-18935.

Date Filed: August 20, 2004.

Parties: Members of the International Air Transport Association.

Subject:

PTC31 N&C/CIRC 0278 dated August 20, 2004.

Mail Vote 405 Resolution 010w Special Passenger Amending Resolution, from Korea (Rep. of) to USA/US Territories, Intended effective date: September 10, 2004.

Docket Number: OST-2004-18928.

Date Filed: August 19, 2004.

Parties: Members of the International Air Transport Association.

Subject:

PTC COMP 1177 dated August 20, 2004.

Mail Vote 404 Resolution 010u Special Amending Resolution, Intended effective date: September 1, 2004.

Docket Number: OST-2004-18918.

Date Filed: August 18, 2004.

Parties: Members of the International Air Transport Association.

Subject:

PTC COMP 1169 dated August 6, 2004.

Composite Resolutions r1-r9, Minutes: PTC COMP 1176 dated August 20, 2004, Intended effective date: April 1, 2005.

Docket Number: OST-2004-18922.

Date Filed: August 18, 2004.

Parties: Members of the International Air Transport Association.

Subject:

PTC COMP 1171 dated August 6, 2004.

Composite Resolutions 300 and 301, Minutes: PTC COMP 1176 dated August 20, 2004, Intended effective date: April 1, 2005.

Docket Number: OST-2004-18921.

Date Filed: August 18, 2004.

Parties: Members of the International Air Transport Association.

Subject:

PTC COMP 1170 dated August 6, 2004.

Composite Resolutions 087aa and 092, Minutes: PTC COMP 1176 dated August 20, 2004, Intended effective date: April 1, 2005.

Docket Number: OST-2004-18916.

Date Filed: August 17, 2004.

Parties: Members of the International Air Transport Association.

Subject:

PTC2 ME 0137 dated July 2, 2004.

TC2 Within Middle East Resolutions r1-r14, Minutes: PTC2 ME 0139 dated August 17, 2004, Tables: PTC2 ME Fares 0051 dated July 2, 2004, Intended effective date: January 1, 2005.

Maria Gulczewski,
Supervisory Dockets Officer, Alternate Federal Register Liaison.

[FR Doc. 04-19956 Filed 8-31-04; 8:45 am]

BILLING CODE 4910-62-P